DEPARTMENT OF LABOR

Employment and Training Administration

[TA-W-41,418]

RHO Industries, Buffalo, New York; Notice of Negative Determination Regarding Application for Reconsideration

By application of July 29, 2002, the Union of Needletrades Industrial and Textile Employees, Rochester Regional Joint Board requested administrative reconsideration of the Department's negative determination regarding eligibility for workers and former workers of the subject firm to apply for Trade Adjustment Assistance (TAA). The denial notice applicable to workers of RHO Industries, Buffalo, New York was issued on June 28, 2002, and was published in the Federal Register on July 18, 2002 (67 FR 47400).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a mis-interpretation of facts or of the law justified reconsideration of the decision.

The investigation findings revealed that criterion (3) of the group eligibility requirements of section 222 of the Trade Act of 1974 was denied because the “contributed importantly” group eligibility requirement of section 222(3) of the Trade Act of 1974, as amended, was not met. The “contributed importantly” test is generally demonstrated through a survey of the workers' firm's customers. A survey of customers indicated that increased imports did not contribute importantly to worker separations at the subject firm. The company did not import chest piece inter-linings during the relevant period. The workers produced chest piece inter-linings.

The request for reconsideration alleges that the company went out of business since they could not raise prices due to alleged foreign competition undercutting the company's prices.

A review of data supplied during the initial investigation shows that the company was not impacted by imports of chest piece inter-linings. The company and a major declining customer that accounted for virtually all of the company's sales did not import chest piece inter-linings during 2000 through March 2002.

The allegation that the company could not raise prices, due to foreign competition undercutting the firms price is not relevant to meeting the eligibility requirements of section 223 of the Trade Act of 1974.

Conclusion

After review of the application and investigative findings, I conclude that there has been no error or misinterpretation of the law or of the facts which would justify reconsideration of the Department of Labor's prior decision. Accordingly, the application is denied.

Signed at Washington, DC, this 6th day of January 2003.
Edward A. Tomchick,
Director, Division of Trade Adjustment Assistance.

[FR Doc. 03-805 Filed 1-14-03; 8:45 am]

BILLING CODE 4510-30-P